DEPARTMENT OF DEFENSE

Department of the Navy

Notice of Availability of Inventions for Licensing; Government-Owned Inventions

AGENCY: Department of the Navy, DOD.

ACTION: Notice.

SUMMARY: The inventions listed below are assigned to the United States Government as represented by the Secretary of the Navy and are available for licensing by the Department of the Navy.

The following patents are available for licensing:

U.S. Patent Number 6,129,134: SYNTHESIS OF METAL MATRIX COMPOSITE.//U.S. Patent Number 6,129,135: FABRICATION OF METAL-MATRIX COMPOSITIONS.

ADDRESSES: Requests for copies of the patents cited should be directed to: Naval Surface Warfare Center Carderock Division, Code 0117, 9500 MacArthur Boulevard, West Bethesda, MD 20817-5700, and must include the patent number.

FOR FURTHER INFORMATION CONTACT: Mr. Dick Bloomquist, Director, Technology Transfer Office, Naval Surface Warfare Center Carderock Division, Code 0117, 9500 MacArthur Boulevard, West Bethesda, MD 20817-5700, telephone (301) 227-4299.

(Authority: 35 U.S.C. 207, 37 CFR Part 404)

Dated: April 5, 2001.
J.L. Roth,
Lieutenant Commander, Judge Advocate General's Corps, U.S. Navy, Federal Register Liaison Officer.

[FR Doc. 01-9435 Filed 4-16-01; 8:45 am]

BILLING CODE 3810-FF-U